DEPARTMENT OF COMMERCE

National Institute of Standards and Technology

Proposed Information Collection; Comment Request; Fastener Quality Act Requirements

ACTION: Notice.

SUMMARY: The Department of Commerce as part of its continuing effort to reduce paperwork and respondent prudent, invites the general paperwork and respondent burden, invites the general public and other Federal agencies to take this opportunity to comment on proposed and/or continuing information collections, as required by the Paperwork Reduction Act of 1995, Public Law 104-13 (44 U.S.C. 3506 (2)(A)).

DATES: Written comments must be submitted on or before May 20, 2003.

ADDRESSES: Direct all written comments to Diana Hynek, Departmental Forms Clearance Officer, Department of Commerce, Room 6625, 14th and Constitution Avenue, NW., Washington, DC 20230 (or via the Internet at dHynek@doc.gov).

FOR FURTHER INFORMATION CONTACT: Requests for additional information should be directed to Wayne Stiefel, International Legal Metrology Group, 301-975-4011 or via the Internet at stiefel@nist.gov.

SUPPLEMENTARY INFORMATION:

I. Abstract

The National Institute of Standards and Technology (NIST), a component of the Technology Administration reporting to the Under Secretary for Technology, under the Fastener Quality Act (the Act) (Public Law 101-592 amended by Public Law 104-113, Public Law 105-234 and Public Law 106-34) is required to accept an affirmation from laboratory accreditation bodies and quality system registrar accreditation bodies. They are required to meet the applicable International Organization for Standardization/International Electro-Technical Commission (ISO/IEC) Guides (ISO/IEC Guide 58 for laboratory accreditors and ISO/IEC Guide 61 for registrar accreditors). An organization having made such an affirmation to NIST may accredit either fastener testing laboratories or quality system registrars for fastener manufacturers in accordance with the applicable provisions of the Act. NIST will solicit information declarations from U.S. and foreign, private accreditation bodies. The information collected will enable NIST to compile a list of accreditation bodies able to provide accreditations meeting all the requirements of the Act and of the procedures, 15 CFR part 280.

II. Method of Collection

Applicants submit required information in paper form.

III. Data

OMB Number: 0693-0015.

Form Number(s): None.

Type of Review: Regular submission.

Affected Public: Business and other for-profit organizations.

Estimated Number of Respondents: 2.

Estimated Time Per Response: 1.5 hours per accreditation and 20 hours per petition.

Estimated Total Annual Burden Hours: 21.5.

Estimated Annual Respondent Cost Burden: $442.

IV. Requests for Comments

Comments are invited on: (1) Whether the proposed collection of information is necessary for the proper performance of the functions of the agency, including whether the information will have practical utility; (b) the accuracy of the agency's estimate of the burden (including hours and costs) of the proposed collection of information; (c) ways to enhance the quality, utility, and clarity of the information to be collected; and (d) ways to minimize the burden of the collection of information on respondents, including through the use of automated collection techniques or other forms of information technology.

Comments submitted in response to this notice will be summarized and/or included in the request for OMB approval of this information collection; they will also become a matter of public record.

Dated: March 17, 2003.
Gwellnar Banks,
Management Analyst, Office of the Chief Information Officer.

[FR Doc. 03-6777 Filed 3-20-03; 8:45 am]

BILLING CODE 3510-13-P